DEPARTMENT OF ENERGY

Federal Energy Regulatory Commission

Notice of FERC Staff Attendance at the Entergy Regional State Committee Meeting

The Federal Energy Regulatory Commission (Commission) hereby gives notice that members of its staff may attend the meeting noted below. Their attendance is part of the Commission's ongoing outreach efforts.

Entergy Regional State Committee

August 12, 2014 (9:00 a.m.-12:00 p.m.)

This meeting will be held at the Hilton Jackson Mississippi Hotel, 1001 East County Line Road, Jackson, MS 39211.

The discussions may address matters at issue in the following proceedings:

Docket No. EL01-88: Louisiana Public Service Commission v. Entergy Services, Inc.

Docket No. EL09-50: Louisiana Public Service Commission v. Entergy Services, Inc.

Docket No. EL09-61: Louisiana Public Service Commission v. Entergy Services, Inc.

Docket No. EL10-55: Louisiana Public Service Commission v. Entergy Services, Inc.

Docket No. EL10-65: Louisiana Public Service Commission v. Entergy Services, Inc.

Docket No. EL11-57: Louisiana Public Service Commission v. Entergy Services, Inc., et al.

Docket No. EL11-34: Midwest Independent Transmission System Operator, Inc. v. Southwest Power Pool, Inc.

Docket No. EL11-63: Louisiana Public Service Commission v. Entergy Services, Inc.

Docket No. EL11-65: Louisiana Public Service Commission v. Entergy Services, Inc.

Docket No. EL13-41: Occidental Chemical Company v. Midwest Independent System Transmission Operator, Inc.

Docket No. EL13-43: Council of the City of New Orleans, Mississippi Public Service Commission, Arkansas Public Service Commission, Public Utility Commission of Texas, Louisiana Public Service Commission.

Docket No. EL14-21: Southwest Power Pool, Inc. v. Midcontinent Independent System Operator, Inc.

Docket No. EL11-30: Midcontinent Independent System Operator, Inc. v. Southwest Power Pool, Inc.

Docket No. ER05-1065: Entergy Services, Inc.

Docket No. ER07-682: Entergy Services, Inc.

Docket No. ER07-956: Entergy Services, Inc.

Docket No. ER08-1056: Entergy Services, Inc.

Docket No. ER09-1224: Entergy Services, Inc.

Docket No. ER10-794: Entergy Services, Inc.

Docket No. ER10-1350: Entergy Services, Inc.

Docket No. ER10-2001: Entergy Arkansas, Inc.

Docket No. ER10-3357: Entergy Arkansas, Inc.

Docket No. ER11-2161: Entergy Texas, Inc.

Docket No. ER12-480: Midwest Independent Transmission System Operator, Inc.

Docket No. ER12-1384: Entergy Arkansas, Inc.

Docket No. ER12-1385: Entergy Gulf States Louisiana, L.L.C.

Docket No. ER12-1386: Entergy Louisiana, LLC.

Docket No. ER12-1387: Entergy Mississippi, Inc.

Docket No. ER12-1388: Entergy New Orleans, Inc.

Docket No. ER12-1390: Entergy Texas, Inc.

Docket No. ER12-1428: Entergy Arkansas, Inc.

Docket No. ER13-432: Entergy Services, Inc.

Docket No. ER13-769: Entergy Arkansas, Inc. and Entergy Mississippi, Inc.

Docket No. ER13-770: Entergy Arkansas, Inc. and Entergy Louisiana, LLC.

Docket No. ER13-868: Midwest Independent Transmission System Operator, Inc.

Docket No. ER13-948: Entergy Services, Inc.

Docket No. ER13-1194: Entergy Services, Inc.

Docket No. ER13-1195: Entergy Services, Inc.

Docket No. ER13-1508: Entergy Arkansas, Inc.

Docket No. ER13-1509: Entergy Gulf States Louisiana, L.L.C.

Docket No. ER13-1510: Entergy Louisiana, LLC.

Docket No. ER13-1511: Entergy Mississippi, Inc.

Docket No. ER13-1512: Entergy New Orleans, Inc.

Docket No. ER13-1513: Entergy Texas, Inc.

Docket No. ER13-1556: Entergy Services, Inc.

Docket No. ER13-1623: Entergy Services, Inc.

Docket No. EL14-19: Midcontinent Independent System Operator, Inc. and Entergy Services, Inc.

Docket No. ER14-73: Entergy Services, Inc.

Docket No. ER14-75: Entergy Arkansas, Inc.

Docket No. ER14-76: Entergy Gulf States Louisiana, L.L.C.

Docket No. ER14-77: Entergy Louisiana, LLC.

Docket No. ER14-78: Entergy Mississippi, Inc.

Docket No. ER14-79: Entergy New Orleans, Inc.

Docket No. ER14-80: Entergy Texas, Inc.

Docket No. ER14-89: Entergy Arkansas, Inc.

Docket No. ER14-98: Midcontinent Independent System Operator and Entergy Services, Inc.; Entergy Services, Inc.

Docket No. ER14-107: Midcontinent Independent System Operator, Inc.

Docket No. ER14-108: Entergy Services, Inc.

Docket No. ER14-128: Entergy Texas, Inc.

Docket No. ER14-134: Entergy Arkansas, Inc.

Docket No. ER14-148: Midcontinent Independent System Operator, Inc.

Docket No. ER14-1174: Southwest Power Pool, Inc.

Docket No. ER14-2445: Midcontinent Independent System Operator, Inc.

These meetings are open to the public.

For more information, contact Patrick Clarey, Office of Energy Market Regulation, Federal Energy Regulatory Commission at (317) 249-5937 or patrick.clarey@ferc.gov.

Dated: August 11, 2014.
Kimberly D. Bose,
Secretary.

[FR Doc. 2014-19470 Filed 8-15-14; 8:45 am]

BILLING CODE 6717-01-P